FEDERAL COMMUNICATIONS COMMISSION

[RM No. 11510; DA 09-5]

Wireless Telecommunications Bureau Seeks Comment on Petition for Rulemaking To Transition Part 22 Cellular Services to Geographic Market-Area Licensing

AGENCY: Federal Communications Commission.

ACTION: Notice.

SUMMARY: In this document, the Federal Communications Commission (“Commission”) seeks comment on a Petition for Rulemaking (“Petition”) filed by CTIA—The Wireless Association (“CTIA”) on October 8, 2008, seeking to transition certain cellular licensing rules to a geographic market area-based license system.

DATES: Interested parties may file comments on or before February 23, 2009, and reply comments on or before March 9, 2009.

ADDRESSES: You may submit comments, identified by RM No. 11510, by any of the following methods:

• Federal eRulemaking Portal: http://www.regulations.gov. Follow the instructions for submitting comments.

• Federal Communications Commission's Web Site: http://www.fcc.gov/cgb/ecfs/. Follow the instructions for submitting comments.

• Mail: Filings can be sent by hand or messenger delivery, by commercial overnight courier, or by first-class or overnight U.S. Postal Service mail (although we continue to experience delays in receiving U.S. Postal Service mail). All filings must be addressed to the Commission's Secretary, Office of the Secretary, Federal Communications Commission.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Joyce Jones, Mobility Division, Wireless Telecommunications Bureau, at (202) 418-1327 or by e-mail to joyce.jones@fcc.gov.

SUPPLEMENTARY INFORMATION: This is a summary of the Commission's Public Notice in RM No. 11510, DA 09-5, released on January 5, 2009. The full text of the Public Notice is available for public inspection and copying during business hours in the FCC Reference Information Center, Portals II, 445 12th Street, SW., Room CY-A257, Washington, DC 20554. It also may be purchased from the Commission's duplicating contractor at Portals II, 445 12th Street, SW., Room CY-B402, Washington, DC 20554; the contractor's Web site, http://www.bcpiweb.com; or by calling (800) 378-3160, facsimile (202) 488-5563, or e-mail FCC@BCPIWEB.com. Copies of the Public Notice also may be obtained via the Commission's Electronic Comment Filing System (ECFS) by entering the docket number, WT Docket No. 08-165. Additionally, the complete item is available on the Commission's Web site at http://www.fcc.gov.

1. On October 8, 2008, CTIA filed a Petition for Rulemaking, seeking to transition part 22 cellular licensing to a geographic market area-based license system.¹ To effectuate this transition, CTIA proposes that the Commission re-issue all cellular licenses to “incumbents” on a Cellular Market Area (“CMA”) basis in place of their existing Cellular Geographic Service Area licenses, subject to two carve outs. First, cellular licensees in a CMA providing service using unserved area licenses would consult with the CMA license holder “to determine each license's service area boundaries following the transition to digital service.” Second “incumbent” cellular licensees providing service beyond the boundaries of their CMAs “would consult with the CMA licensee of the affected market to establish service area boundaries” and the “incumbent's” license would be modified to reflect these boundaries. In either instance, if the parties cannot reach agreement, CTIA proposes that the matter be referred to the Commission for adjudication. The Commission seeks comment on CTIA's Petition.

¹ Cellular markets initially licensed more than five years ago are subject to the Commission's Unserved Area licensing rules, which require prior approval for new cellular systems, and expansions of existing systems, on a cell site-by-cell site basis. See 47 CFR 22.949 and 22.953.

2. Pursuant to §§ 1.415 and 1.419 of the Commission's rules, 47 CFR 1.415 and 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://www.fcc.gov/cgb/ecfs/ or the Federal eRulemaking Portal: http://www.regulations.gov. Filers should follow the instructions provided on the website for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail must be addressed to 445 12th Street, SW., Washington DC 20554.

• People with Disabilities: To request materials in accessible formats for people with disabilities (braille, large print, electronic files, audio format), send an e-mail to fcc504@fcc.gov or call the Consumer & Governmental Affairs Bureau at 202-418-0530 (voice), 202-418-0432 (tty).

Parties should also send a copy of their filings to Joyce Jones, Mobility Division, Wireless Telecommunications Bureau, Federal Communications Commission, Room 6413, 445 12th Street, SW., Washington, DC 20554, or by e-mail to joyce.jones@fcc.gov. Parties must also serve one copy with the Commission's copy contractor, Best Copy and Printing, Inc. (BCPI), Portals II, 445 12th Street, SW., Room CY-B402, Washington, DC 20554, (202) 488-5300, or via e-mail to fcc@bcpiweb.com.

Federal Communications Commission.
Roger S. Noel,
Chief, Mobility Division/Wireless Telecommunications Bureau.

[FR Doc. E9-1254 Filed 1-21-09; 8:45 am]

BILLING CODE 6712-01-P